DEPARTMENT OF COMMERCE

International Trade Administration

[A-570-601]

Tapered Roller Bearings and Parts Thereof, Finished and Unfinished, from the People's Republic of China: Notice of Amended Final Results Pursuant to Final Court Decision

AGENCY: Import Administration, International Trade Administration, Department of Commerce

SUMMARY: On January 21, 2005, in Luoyang Bearing Factory v. United States, Slip Op. 05-3, the Court of International Trade affirmed the Department of Commerce's Final Results of Redetermination Pursuant to Remand, dated September 30, 2004, and entered a judgment order. This litigation related to the Department of Commerce's review of the antidumping order on tapered roller bearings and parts thereof, finished and unfinished, from the People's Republic of China, covering the period June 1, 1998, through May 31, 1999. As no further appeals have been filed and there is now a final and conclusive court decision in this action, we are amending the final results of review in this proceeding and we will instruct U.S. Customs and Border Protection to liquidate entries subject to this review.

EFFECTIVE DATE: April 13, 2005.

FOR FURTHER INFORMATION CONTACT: Andrew Smith AD/CVD Operations, Office 1, Import Administration, International Trade Administration, U.S. Department of Commerce, 14th Street and Constitution Avenue, NW, Washington, DC 20230; telephone: (202) 482-1276.

SUPPLEMENTARY INFORMATION:

Background

Following publication of the TRBs XII Final Results¹, the Timken Company, the petitioner in this case, and the respondents, Luoyang Bearing Corporation (“Luoyang Bearing”), Zhejiang Machinery Import and Export Corporation (“ZMC”), China National Machinery I/E Corporation (“CMC”), and Wafangdian Bearing Factory (“Wafangdian”) (“respondents”), filed a lawsuit with the Court of International Trade (“CIT”) challenging the Department of Commerce's (“Department”) findings in the TRBs XII Final Results. In Luoyang Bearing Corp. (Group), Zhejiang Machinery Import & Export Corp., China National Machinery Import & Export Corporation, and Wafangdian Bearing Company, Ltd. v. United States, Slip Op. 04-53 (CIT 2004) (“Luoyang Bearing”), the CIT instructed the Department to (1) further explain why the surrogate values it chose for wooden cases and the steel used to produce tapered roller bearings for Wafangdian constitute the “best available information,” and address the aberrational data referenced by the respondents; and (2) conduct the “separate rates” analysis with respect to Premier Bearing & Equipment Limited (“Premier”) and apply the People's Republic of China (“PRC”)-wide rate to all of Premier's United States sales if it was determined that Premier is not independent of government control.

¹ See Tapered Roller Bearings and Parts Thereof, Finished and Unfinished, From the People's Republic of China; Final Results of 1998-1999 Administrative Review, Partial Rescission of Review, and Determination Not to Revoke Order in Part, 66 FR 1953 (January 10, 2001) and Tapered Roller Bearings and Parts Thereof, Finished and Unfinished, From the People's Republic of China; Amended Final Results of 1998-1999 Administrative Review and Determination To Revoke Order in Part, 66 FR 11562 (February 26, 2001) (collectively, “TRBs XII Final Results”).

The Department complied with the CIT's remand instructions and issued its final results of redetermination pursuant to remand on September 30, 2004. See Final Results of Redetermination Pursuant to Remand (“Remand Results”). In its Remand Results, the Department revised the surrogate value used to value steel inputs used in the production of rollers by excluding aberrational data as well as data that the Department had reason to believe or suspect were distorted. The Department also corrected a clerical error in the programming used to calculate the margin for ZMC. As a result of the Remand Results, the antidumping duty rate for Luoyang was decreased from 4.37 to 3.85 percent. The antidumping duty rate for ZMC was decreased from 7.37 to 0.00. The antidumping duty rate for CMC was decreased from 0.82 to 0.78 percent. The antidumping duty rate for Wafangdian and the PRC-wide rate were unchanged from the TRBs XII Final Results.

On January 21, 2005, the CIT affirmed the Department's findings in the Remand Results. Specifically, the CIT upheld the Department's explanation of what constitutes the “best available information” with regard to the surrogate values the Department chose for wooden cases and for the steel used to produce rollers; the Department's application of the separate rates test; the Department's decision to not revoke the antidumping order for ZMC; and, the Department's practice of using other producers' factors data to calculate Premier's normal value. See Luoyang Bearing Factory v. United States, Slip Op. 05-3 (CIT January 21, 2005).

On February 16, 2005, consistent with the decision of the United States Court of Appeals for the Federal Circuit (“Federal Circuit”) in Timken Co. v. United States, 893 F. 2d 337 (Fed. Cir. 1990) (“Timken”), the Department notified the public that the CIT's decision in Luoyang Bearing was “not in harmony” with the TRBs XII Final Results. See Notice of Court Decision and Suspension of Liquidation: Tapered Roller Bearings and Parts Thereof, Finished and Unfinished, from the People's Republic of China, 70 FR 7925 (February 16, 2005) (“Timken Notice”). No party appealed the CIT's decision. As there is now a final and conclusive court decision in this action, we are amending our final results of review and we will instruct the U.S. Customs and Border Protection (“CBP”) to liquidate entries subject to this review.

Amendment to the Final Results

Pursuant to section 516A(e) of the Tariff Act of 1930, as amended (“the Act”), because no further appeals have been filed and there is now a final and conclusive decision in the court proceeding, we are amending the final results of administrative review of the antidumping order on tapered roller bearings and parts thereof, finished and unfinished, from the PRC for the period June 1, 1998, through May 31, 1999. The revised weight-averaged dumping margins are as follows:

Company | Margin (percent)
ZHEJIANG MACHINERY IMPORT AND EXPORT CORP. | 0.00
LUOYANG BEARING CORPORATION | 3.85
CHINA NATIONAL MACHINERY I/E CORP. | 0.78
PREMIER BEARING AND EQUIPMENT, LTD | 7.36
WAFANGDIAN BEARING FACTORY | 0.00

The Department will issue appraisement instructions directly to the CBP. The Department will instruct CBP to liquidate relevant entries covering the subject merchandise effective the date of publication of this notice.

This notice is issued and published in accordance with section 751(a)(1) of the Act.

Dated: April 7, 2005.
Joesph A. Spetrini,
Acting Assistant Secretary for Import Administration.

[FR Doc. E5-1740 Filed 4-12-05; 8:45 am]

BILLING CODE 3510-DS-S